DEPARTMENT OF THE INTERIOR

Bureau of Land Management

[(NV-014) (9211)]

Notice of Availability of a Draft Plan Amendment

AGENCY: Bureau of Land Management, Interior.

ACTION: Notice of availability of a draft amendment to the Elko and Wells Resource Management Plans and preliminary environmental assessment to address fire management.

SUMMARY: Public meetings will be held to obtain public comment on the draft amendment and preliminary environmental assessment of the Elko and Wells Resource Management Plans to address fire management. The Elko and Wells Resource Management Plans address management of public lands in Elko and portions of Eureka and Lander Counties, Nevada.

DATES: Public meetings will be announced in the local news media at least 15 days before the scheduled meetings and meeting notices will be sent to persons and parties on the mailing list. Comments not presented at these meetings are due in the Elko Field Office by June 24th.

FOR FURTHER INFORMATION CONTACT: Comments not made at the public meetings can be made by contacting Joe Freeland, Fire Management Officer, by telephone at 775-753-0200, by e-mail at Joe—Freeland@nv.blm.gov, or by mail at Bureau of Land Management, Elko Field Office, 3900 Idaho Street, Elko, Nevada 89801. Comments can also be made by contacting Melissa Petersen, Fire Information Officer, at 775-748-4141 or by e-mail at Melissa_Petersen@nv.blm.gov. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

FOR FURTHER INFORMATION: Copies of the Draft Resource Management Plan Amendment and Preliminary Environmental Assessment can be obtained by contacting Joe Freeland or Melissa Petersen at the Bureau of Land Management, Elko Field Office, 3900 Idaho Street, Elko, Nevada 89801. Copies of the draft plan amendment will also be available at the public meetings.

Dated: March 25, 2002.
Helen Hankins,
Elko Field Office Manager.

[FR Doc. 02-12924 Filed 5-22-02; 8:45 am]

BILLING CODE 4310-HC-P